DEPARTMENT OF HEALTH AND HUMAN SERVICES

Renewal of the President's Council on Sports, Fitness and Nutrition's Charter

AGENCY: Office of Disease Prevention and Health Promotion, Office of the Assistant Secretary for Health, Office of the Secretary, Department of Health and Human Services.

ACTION: Notice.

SUMMARY: The U.S. Department of Health and Human Services (HHS) is hereby giving notice that the charter for the President's Council on Sports, Fitness, and Nutrition (hereafter referred to as the Council) has been renewed.

FOR FURTHER INFORMATION CONTACT: Jennifer Anne Bishop, ScD, MPH, Designated Federal Official, U.S. Department of Health and Human Services, Office of Disease Prevention and Health Promotion; 1101 Wootton Parkway, Suite 420, Rockville, Maryland 20852; telephone: (240) 276-9567; email address Jennifer.bishop@hhs.gov. Additional information is available on the Council's website at: https://www.hhs.gov/fitness/about-pcsfn/executive-order/index.html#charter.

SUPPLEMENTARY INFORMATION: The Council is charged with advising the President, through the Secretary of Health and Human Services (Secretary), concerning progress made in carrying out the provisions of Executive Order 13265, as amended by Executive Order 13824, which aims to expand and encourage youth sports participation and to promote the overall physical fitness, health, and nutrition of all Americans. The Council promotes this goal through external outreach, raising public awareness, and recommending to the President, through the Secretary, actions to accelerate such progress. Executive Order 13824 directs the Secretary to carry out the responsibilities for public health and human services and to recognize the benefits of youth sports participation, physical activity, and a nutritious diet in helping create habits that support a healthy lifestyle. The Executive Order also directs the Secretary to develop a national strategy to expand children's participation in youth sports, encourage regular physical activity, including active play, and promote good nutrition for all Americans. Published in September 2019, the National Youth Sport Strategy (NYSS) focuses on children and youth in communities with below-average sports participation and communities with limited access to athletic facilities or recreational areas. The Council is tasked to provide additional support in promoting, shaping, and executing elements of the NYSS.

On May 13, 2020, the Secretary of Health and Human Services approved the renewal of the Council's charter. The new charter was executed and filed with the appropriate Congressional committees and the Library of Congress on May 17, 2020. The renewal of the Council's charter gives the Council authorization to operate until May 16, 2022.

A copy of the Council's charter is available on the Council's website at: https://www.hhs.gov/fitness/about-pcsfn/executive-order/index.html#charter.

A copy of the charter can also be obtained by accessing the Federal Advisory Committee Act Database that is managed by the Committee Management Secretariat under the General Services Administration. The website for the FACA database is https://facadatabase.gov.

Dated: June 10, 2020.
Carter Blakey,
Acting Director, Office of Disease Prevention and Health Promotion.

[FR Doc. 2020-12972 Filed 6-16-20; 8:45 am]

BILLING CODE 4150-28-P